DEPARTMENT OF DEFENSE

Department of the Navy

Extension of Public Comment Period for the Draft Environmental Impact Statement/Overseas Environmental Impact Statement for Commonwealth of the Northern Mariana Islands Joint Military Training

AGENCY: Department of the Navy, Department of Defense.

ACTION: Notice.

SUMMARY: On April 03, 2015, the Department of Navy (DoN) published a Notice of Availability and Notice of Public Meetings for the Draft Environmental Impact Statement/Overseas Environmental Impact Statement for Commonwealth of the Northern Mariana Islands Joint Military Training. A notice extending the public comment period by 60 days was published on May 14, 2015. The purpose of this notice is to announce an additional 14-day extension of the public comment period to August 17, 2015 Eastern Daylight Time (E.D.T.) [August 18, 2015, Chamorro Standard Time (ChST)]. This extension is made in recognition of the communications disruptions in the CNMI caused by the damage to the undersea cable between Guam and Saipan.

DATES: The public comment period for the Draft EIS began on April 03, 2015, EDT [April 04, 2015, ChST) with the publication of the Notice of Availability in the Federal Register by the U.S. Environmental Protection Agency, and with this extension, will end on August 17, 2015, EDT [August 18, 2015, ChST] for a total of 134 days. Mailed comments should be postmarked no later than August 17, 2015, EDT [August 18, 2015, ChST] to ensure they are considered.

ADDRESSES: The public may provide comments through the project Web site at www.CNMIJointMilitaryTrainingEIS.com, or by mail at: Naval Facilities Engineering Command, Pacific, Attn: 09PA, Public Affairs Office, 258 Makalapa Drive, Suite 100, JBPHH, HI 96860-3134.

The Draft EIS/OEIS was distributed to federal and local agencies, elected officials, and other interested individuals and organizations. The Draft EIS/OEIS is available for public review at www.CNMIJointMilitaryTrainingEIS.com, and at the following libraries:

(1) Joeten Kiyu Public Library, Saipan; (2) Northern Marianas College Olympio T. Borja Memorial Library, Saipan; (3) Tinian Public Library, Tinian; (4) Antonio C. Atalig Memorial Rota Public Library, Rota; (5) University of Guam Robert F. Kennedy Memorial Library, Guam; (6) Nieves M. Flores Memorial Library, Guam.

SUPPLEMENTARY INFORMATION: On April 03, 2015, the Department of Navy (DoN) published a Notice of Availability and Notice of Public Meetings for the Draft Environmental Impact Statement/Overseas Environmental Impact Statement for Commonwealth of the Northern Mariana Islands Joint Military Training (80 FR 18385, April 03, 2015). A notice extending the public comment period by 60 days was published on May 14, 2015 (80 FR 27678). The purpose of this notice is to announce an additional 14-day extension of the public comment period to August 17, 2015 Eastern Daylight Time (E.D.T.) [August 18, 2015, Chamorro Standard Time (ChST)]. This extension is made in recognition of the communications disruptions in the CNMI caused by the damage to the undersea cable between Guam and Saipan.

The DoN's proposed action is to establish live-fire Range Training Areas (RTAs) within the CNMI to address the U.S. Pacific Command Service Components' unfilled unit level and combined level training requirements in the Western Pacific. The DoN recognizes that public comments are an essential part of the National Environmental Policy Act (NEPA) process. Accordingly, the DoN established a 60-day public comment period in lieu of the minimum 45-day period required by NEPA implementing regulations. A notice extending the public comment period by 60 days was published on May 14, 2015 (80 FR 27678). Due to a break in an undersea cable and associated communications disruptions in the CNMI, the DoN is further extending the Draft EIS public comment period by 14 days to August 17, 2015, EDT [August 18, 2015, ChST] for a total of 134 days.

FOR FURTHER INFORMATION CONTACT: CNMI Joint Military Training EIS/OEIS Project Manager by email via the project Web site (www.CNMIJointMilitaryTrainingEIS.com).

Dated: July 27, 2015.
N.A. Hagerty-Ford,
Commander, Judge Advocate General's Corps, U.S. Navy, Federal Register Liaison Officer.

[FR Doc. 2015-18858 Filed 7-30-15; 8:45 am]

BILLING CODE 3810-FF-P